FEDERAL MARITIME COMMISSION

Ocean Transportation Intermediary License Applicants

Notice is hereby given that the following applicants have filed with the Federal Maritime Commission an application for license as a Non-Vessel-Operating Common Carrier and Ocean Freight Forwarder-Ocean Transportation Intermediary pursuant to section 19 of the Shipping Act of 1984 as amended (46 U.S.C. Chapter 409 and 46 CFR part 515).

Persons knowing of any reason why the following applicants should not receive a license are requested to contact the Office of Transportation Intermediaries, Federal Maritime Commission,Washington, DC 20573.

Non-Vessel-Operating Common Carrier Ocean Transportation Intermediary Applicants:

Inline Freight System Inc., 8518 Turpin Street, Rosemead, CA 91779, Officers: Chung Yan Mun, President (Qualifying Individual), Oi Ling Yeung, Secretary.

HD EXPN USA Inc., 501 Broad Avenue, Ste. 3, Ridgefield, NJ 07657, Officers: Man S. Kwak, President (Qualifying Individual), Dong H. Kang, Vice President.

Worldwide Cargo Services, Inc., 2 Johnson Road, Lawrence, NY 11599, Officers: Oscar Canjura, Int'l Logistics Coordinator, Mike Lovio, Int'l Operations Manager (Qualifying Individuals), Mark Parrotto, President.

Hondu Shipping, Inc., 31 SW 31 Court, Miami, FL 33135, Officers: Claudia M. Figueroa, Vice President (Qualifying Individual), Jorge A. Munoz, President.

All Trans Cargo, Corp., 10300 NW 19 Street, Ste. 104, Miami, FL 33172, Officer: Ana Maria Gonzalez, President (Qualifying Individual).

Wingar Logistics, Inc., 9690 Telstar Ave., Ste. 207, El Monte, CA 91731. Officer: Alex S. Chia, President (Qualifying Individual).

Astro TV & Appliance International Inc. dba Astro International Moving & Storage Inc., 94 Spark Street, Brockton, MA 02302, Officers: Peter Karys, Vice President (Qualifying Individual). Chris Karys, President.

M.G. Y Asociados Consultores Generales Del, Comercio International dba M.G. Y Asociados, Avenida Soublette Maiquetia, Casa #01PB, Caracas 1162 Venezuela, Officers: Marianela L. Guzman, President (Qualifying Individual). Gioheveth G. Bercowsky, Managing Director.

Non-Vessel-Operating Common Carrier and Ocean Freight Forwarder Transportation Intermediary Applicants:

Pactrans Global, LLC, 950 Thorndale Avenue, Elk Grove, IL 60007, Officer: Ketty Y. Pon, Exec. Manager (Operations) (Qualifying Individual).

C.A.M. Logistics Inc., 1242 W. 76 Street, Hialeah, FL 33014, Officer: Elizabeth Alexander, President (Qualifying Individual).

Master Line Agencies, Inc. dba Master Line, 1325 N.W. 98th Court, Unit 12, Doral, FL 33172, Officers: Juan C. Esquivel, Vice President (Qualifying Individual), Nancy M. Esquivel, Chairman.

Livingston International, Inc. dba Livingston Customs Brokerage, 670 Young Street, Tonawanda, NY 14150, Officer: Dorothea J. Rucker, Dir., Process Improvement (Qualifying Individual).

AAB Logistics, L.L.C., 2371 Hurst Drive, NE., Ste. 100, Atlanta, GA 30305. Officer: Alexander S.M. Gibson, Director (Qualifying Individual).

Allstate Int'l Freight USA, Inc. dba A.I.F. Company, 200 E. Stanley Street, Compton, CA 90220, Officer: Se Hwan Park, CEO (Qualifying Individual).

Cargo Brokers International, Inc. dba Martainer, 107 Forest Parkway, Ste. 600, Forest Park, GA 30297, Officer: Carsten O. Steinmetz, CEO (Qualifying Individual).

MEGA Supply Chain Solutions, Inc., 9449 8th Street, Rancho Cucamonga, CA 91730, Officer: Alan J. Moore, Vice President (Qualifying Individual).

NTL Naigai Trans Line (USA) Inc., 970 West 190th Street, Ste. 580, Torrance, CA 90502, Officers: Kumiko Shimoharai, Vice President, Yoji Kurita, President (Qualifying Individual).

Promax Automotive, Inc., 5265 E. Provident Drive, Cincinnati, OH 45246, Officer: Richard Doran, Sr. Vice President (Qualifying Individual).

Pacific Power Logistics, Inc., 880 Apollo Street, Ste. 217, El Segundo, CA 90245. Officer: Anthony Rimland, President (Qualifying Individual).

Liz International Group, Corp., 10100 NW 116 Way, Ste. 15, Medley, FL 33178. Officer: Manuel P. Liz, President (Qualifying Individual).

RDR Worldwide, LLC., 1230 West Bagley Road, Berea, OH 44017, Officers: Theresa Karnavas, Member (Qualifying Individual), Richard A. Gareau, Member.

Air Sea Trading Group Corp., 7508 N.W. 54th Street, Miami, FL 33166, Officer: Gilberto Lopez, Treasurer (Qualifying Individual), Claudia Lopez, President.

May International, Inc. dba Seamount, Transportation Systems, 10465 N. 114th Street, Ste. 116, Scottsdale, AZ 85259, Officer: Kevin B. May, President (Qualifying Individual).

Algis Freight LLC, 2412 Country Club Prado, Coral Gables, FL 33134, Officers: Giselle Sanchez, Director (Qualifying Individual), Alvaro Sanchez, Manager.

Freight To Go.Com, Inc., 12254 S.W. 117th Terrace, Miami, FL 33186, Officers: Leo W. Jiram, Vice President (Qualifying Individual), Karl J. Jiram, President.

SPG Logistics, Inc., 8081 N.W. 67th Street, Miami, FL 33166, Officer: Santiago Lostorto, Secretary (Qualifying Individual).

Transport Logistics Inc., 2500 Southbranch Blvd., Ste. A, Oak Creek, WI 53154, Officer: Wanda Chapala, Dir. Int'l. Operations (Qualifying Individual).

Heneways U.S.A. Inc., 1400 Mittel Blvd., Ste. C, Wood Dale, IL 30191, Officer: Theresa D. Haney, Vice President (Qualifying Individual).

Transaction Publishers, Inc. dba Express Book, Freight A Division of Transaction Publishers, Inc., 35 Berrue Circle, Piscataway, NJ 08854, Officers: Lori A. Fellmer, Secretary (Qualifying Individual), Mary E. Curtis, President.

Logistics Innovators, Inc., 16600 E. 33rd Drive, Unit 26, Aurora, CO 80011, Officers: Toni R. Brock, President (Qualifying Individual), Robert A. Brock, Secretary.

Vencel Colombia Corp., 106 14 Corona Ave., Corona Queens, NY 11368, Officers: Jason Fernandez, Operations Director (Qualifying Individual), David Fernandez, CEO.

Manray Express Freight Systems, Inc., 5959 N.W. 37th Ave., Miami, FL 33142, Officer: Robert E. Hamer, President (Qualifying Individual).

Damca International, LLC dba Blue Project Cargo, 1335 NW 98th Court, Ste. 1 & 2, Doral, FL 33172, Officer: Nils Ekman, President (Qualifying Individual).

A&A Contract Customs Brokers USA, Inc., dba A&A International Freight Forwarding, 2 12th Street, Blaine, WA 98230, Officer: Beau Rogers, Vice President (Qualifying Individual).

Ocean Freight Forwarder—Ocean Transportation Intermediary Applicants:

Q&C Global Corporation, 2112 San Antonio Dr., Montebello, CA 90640, Officers: Clay F. Wong, President (Qualifying Individual), Quan Li Smith, Vice President.

Geek Investments LLC, 1826 Rambling Rose Lane, Mishawaka, IN 46544, Officer: Patience Taruwinga, Member (Qualifying Individual).

GTO Autotrade Inc dba Global Trade Organization, 8113 NW 68th Street, Miami, FL 33166, Officers: Juan F. Sierra, President (Qualifying Individual), Luz M. Arango, Vice President.

Min American Inc., 11357 Nuckols Road, Ste. 200, Glen Allen, VA 23059, Officer: Gina M. Cianelli, CEO (Qualifying Individual).

Waled International, LLC, 319 Nadia Way, Stafford, TX 77477, Officer: Abdurahman Esmael, Member/Manager (Qualifying Individual).

Dated: August 31, 2009.
Karen V. Gregory,
Secretary.

[FR Doc. E9-21331 Filed 9-3-09; 8:45 am]

BILLING CODE 6730-01-P